POSTAL REGULATORY COMMISSION

39 CFR Part 301, 3010, 3015 and 3020

[Docket No. RM2007-1; Order No. 43]

Administrative Practice and Procedure, Postal Service; Correction

AGENCY: Postal Regulatory Commission.

ACTION: Final rule; correction.

SUMMARY: The Postal Regulatory Commission published a final rule in the Federal Register of November 9, 2007 implementing certain provisions in the Postal Accountability and Enhancement Act. The effective date should have read December 10, 2007, rather than November 9, 2007.

DATES: The effective date for FR Doc. E7-21596, published on November 9, 2007 (72 FR 63662) is corrected to December 10, 2007.

FOR FURTHER INFORMATION CONTACT: Stephen L. Sharfman, General Counsel, 202-789-6820 and stephen.sharfman@prc.gov.

SUPPLEMENTARY INFORMATION: In the Federal Register of November 9, 2007, page 72 FR 63662, in the first column in the “Dates” entry, correct the reference “Effective date: November 9, 2007” to read “Effective date: December 10, 2007.”

Steven W. Williams,
Secretary.

[FR Doc. 07-5683 Filed 11-9-07; 12:24 pm]

BILLING CODE 7710-FW-M